DEPARTMENT OF TRANSPORTATION

Research and Innovative Technology Administration

[Docket No. RITA-2013-0003]

Notice of Request for Clearance of a New Information Collection: National Census of Ferry Operators

AGENCY: Bureau of Transportation Statistics (BTS), Research and Innovative Technology Administration (RITA), DOT.

ACTION: Notice and request for comments.

SUMMARY: In accordance with the requirements of section 3506(c)(2)(A) of the Paperwork Reduction Act of 1995, this notice announces the intention of the BTS to request the Office of Management and Budget's (OMB's) approval for an information collection related to the Nation's ferry operations. The information collected will be used to produce a descriptive database of existing ferry operations. A summary report of survey findings will be published by BTS on the BTS Web page.

DATES: Comments must be submitted on or before July 1, 2013.

ADDRESSES: You may submit comments identified by DOT Docket ID Number RITA-2013-0003 and OMB control number 2139-0009 to the U.S. Department of Transportation (DOT), Dockets Management System (DMS). You may submit your comments by mail or in person to the Docket Clerk, U.S. Department of Transportation, 1200 New Jersey Ave SE., West Building, Room W12-140, Washington, DC 20590. Comments should identify the docket number as indicated above. Paper comments should be submitted in duplicate. The DMS is open for examination and copying, at the above address, from 9 a.m. to 5 p.m., Monday through Friday, except federal holidays. If you wish to receive confirmation of receipt of your written comments, please include a self-addressed, stamped postcard with the following statement: “Comments on Docket RITA-2013-0003.” The Docket Clerk will date stamp the postcard prior to returning it to you via the U.S. mail. Please note that due to delays in the delivery of U.S. mail to Federal offices in Washington, DC, we recommend that persons consider an alternative method (the Internet, fax, or professional delivery service) to submit comments to the docket and ensure their timely receipt at U.S. DOT. You may fax your comments to the DMS at (202) 493-2251. Comments can also be viewed and/or submitted via the Federal Rulemaking Portal: http://www.regulations.gov.

Please note that anyone is able to electronically search all comments received into our docket management system by the name of the individual submitting the comment (or signing the comment if submitted on behalf of an association, business, labor union, etc.). You may review DOT's complete Privacy Act Statement in the Federal Register published on April 11, 2000 (Volume 65, Number 70; pages 19475-19570) or you may review the Privacy Act Statement at http://www.gpoaccess.gov/fr/.

FOR FURTHER INFORMATION CONTACT: Kenneth W. Steve, (202) 366-4108, NCFO Project Manager, BTS, RITA, Department of Transportation, 1200 New Jersey Ave. SE., Room E34-431, Washington, DC 20590. Office hours are from 9:00 a.m. to 6:30 p.m., E.T., Monday through Friday, except Federal holidays.

SUPPLEMENTARY INFORMATION:

Title: National Census of Ferry Operators (NCFO).

Background: The Transportation Equity Act for the 21st Century (TEA-21) (Pub. L. 105-178), section 1207(c), directed the Secretary of Transportation to conduct a study of ferry transportation in the United States and its possessions. In 2000, the Federal Highway Administration (FHWA) Office of Intermodal and Statewide Planning conducted a survey of approximately 250 ferry operators to identify: (1) Existing ferry operations including the location and routes served; (2) source and amount, if any, of funds derived from Federal, State, or local governments supporting ferry construction or operations; (3) potential domestic ferry routes in the United States and its possessions and to develop information on those routes; and (4) potential for use of high speed ferry services and alternative-fueled ferry services. The Safe, Accountable, Flexible Efficient Transportation Equity Act—A Legacy for Users (SAFETEA-LU) Public Law 109-59, Section 1801(e)) required the Secretary, acting through the BTS, to establish and maintain a national ferry database containing current information regarding routes, vessels, passengers and vehicles carried, funding sources and such other information as the Secretary considers useful.

This same legislation also required biennial updating of the database. BTS conducted the first Census of Ferry Operators in 2006, 2008 and again in 2010. Recently enacted MAP-21 legislation [Moving Ahead for Progress in the 21st Century Act (Pub. L. 112-141)], continues the BTS mandate to conduct the NCFO and requires that the Federal Highway Administration (FHWA) use the NCFO data to set the specific formula for allocating federal ferry funds ($67 million in 2013 and 2014). The funding allocations are based on a percentage of the number of passenger boardings, vehicle boardings, and route miles served. The MAP-21 legislation also requires that BTS make additional changes to the NCFO questionnaire to ensure that the resulting database is consistent with the National Transit Database maintained by the Federal Transit Administration (FTA). As a result, BTS has removed census questions that were no longer specifically mandated (e.g., peak boarding times, etc.) and added more detailed items about the core infrastructure of the ferry operations themselves. The overall length of the revised questionnaire remains consistent with that of previous years.

The survey will be administered to the entire population of ferry operators (estimate 260 or less). The survey will request the respondents to provide information such as: The points served; the type of ownership; the number of passengers and vehicles carried in the past 12 months; vessel descriptions (including type of fuel), and intermodal connectivity. All data collected in 2013 will be added to the existing NCFO database.

Respondents: The target population for the survey will be all of the approximately 260 operators of existing ferry services in the United States.

Estimated Average Burden per Response: The burden per respondent is estimated to be an average of 30 minutes. This average is based on an estimate of 20 minutes to answer new questions and an additional 10 minutes to review (and revise as needed) previously submitted data.

Estimated Total Annual Burden: The total annual burden (in the year that the survey is conducted) is estimated to be approximately 130 hours (that is 30 minutes per respondent for 260 respondents equals 7,800 minutes).

Frequency: This survey will be updated every other year.

Public Comments Invited: Interested parties are invited to send comments regarding any aspect of this information collection, including, but not limited to: (1) The necessity and utility of the information collection for the proper performance of the functions of the DOT; (2) the accuracy of the estimated burden; (3) ways to enhance the quality, utility, clarity and content of the collected information; and (4) ways to minimize the collection burden without reducing the quality of the collected information. Comments submitted in response to this notice will be summarized and/or included in the request for OMB's clearance of this information collection.

Authority: The Transportation Equity Act for the 21st Century, (Pub. L. 105-178), section 1207(c), The Safe, Accountable, Flexible Efficient Transportation Equity Act—A Legacy for Users (SAFETEA-LU) Pub. L. 109-59, Moving Ahead for Progress in the 21st Century Act (MAP-21) Pub. L. 112-141 and 49 CFR 1.46.

Issued in Washington, DC, on the 26th day of April, 2013.
Patricia Hu,
Director, Bureau of Transportation Statistics, Research and Innovative Technology Administration.

[FR Doc. 2013-10416 Filed 5-1-13; 8:45 am]

BILLING CODE 4910-HY-P